LEGAL SERVICES CORPORATION

Sunshine Act Meeting of the Board of Directors and the Board's Six Committees; Notice

Date and Time: The Legal Services Corporation Board of Directors and the Board's six Committees will meet on October 30-31, 2009 in the order set forth in the following schedule. The first meeting scheduled for October 30, will commence at 2 p.m. Eastern Time. Each meeting thereafter will commence promptly upon adjournment of the immediately preceding meeting, except that meetings of the Provisions and Audit Committees will run concurrently and the meeting of the Search Committee will commence at 4:30 p.m. and for a period of time run concurrently with the meeting of the Operations and Regulations Committee. The first meeting scheduled for October 31, will commence at 8:30 a.m., and each meeting thereafter will commence promptly upon adjournment of the immediately preceding meeting.

Location: Particular attention should be given to the fact that the location of the meetings on Friday, October 30th is different from the location of meetings on Saturday, October 31st as follows:

Friday, October 30, 2009

Rutgers School of Law—Camden, 217 North Fifth Street, Camden, New Jersey 08102.

Saturday, October 31, 2009

Crown Plaza Philadelphia-Center City, 1800 Market Street, Philadelphia, PA 19103.

Public Observation: Three committee meetings will be open in their entirety to public observation, but portions of three other committee meetings and a portion of the full board meeting will not be open to the public. For all meetings and portions thereof open to public observation, members of the public who are unable to attend but wish to listen to the proceedings may do so by the following the telephone call-in directions given below. You are asked to keep your telephone muted to eliminate background noises. From time to time, comments from the public may be solicited by the presiding Chairman.

Call-in Directions for Open Session

Friday, October 30, 2009

• Call toll-free number: 1-800-247-9979;

• When prompted, enter the following numeric pass code: 34833626;

• When connected to the call, please “MUTE” your telephone immediately.

Saturday, October 31, 2009

• Call toll-free number: 1-800-247-9979;

• When prompted, enter the following numeric pass code: 34833626;

• When connected to the call, please “MUTE” your telephone immediately.

Meeting Schedule

| Time
Friday, October 30, 2009
Location: Rutgers School of Law:
1. Provision for the Delivery of Legal Services ¹ Committee (“Provisions Committee”) | 2 p.m.
2. Audit Committee. |
3. Search Committee ² | 4:30 p.m.
4. Operations & Regulations Committee |
Saturday, October 31, 2009
Location: Crown Plaza Philadelphia:
5. Governance and Performance Review Committee | 8:30 a.m.
6. Finance Committee. |
7. Board of Directors. |

Status of Meeting: Open, except as noted below.

¹ The Provisions Committee and Audit Committee will meet concurrently commencing at 2 pm ET.

² Please note during the latter portion of the open meeting of the Operations and Regulations Committee, a concurrent closed meeting of the Search Committee will be convened.

• Search Committee—Open except that a portion of the meeting will be closed to the public pursuant to a vote of the Board of Directors so the committee may consider and perhaps act on a recommendation to make the board as to an Interim President for LSC.

A verbatim written transcript will be made of the closed session of the Committee meeting. However, the transcript of any portions of the closed session falling within the relevant provisions of the Government in the Sunshine Act, 5 U.S.C. 552b(c)(2), and the corresponding provisions of the Legal Services Corporation's implementing regulation, 45 CFR 1622.5 will not be available for public inspection. A copy of the General Counsel's Certification that in his opinion the closing is authorized by law will be available upon request.

• Audit Committee—Open, except that a portion of the meeting will be closed so the Committee can hear a follow-up report to the FY 2008 Annual Audit reference on classification of LSC consultants and OIG audit of LSC's consultant contracts.

A verbatim written transcript will be made of the closed session of the Committee meetings. However, the transcript of any portions of the closed session falling within the relevant provisions of the Government in the Sunshine Act, 5 U.S.C. 552b(c)(9)(B), and the corresponding provisions of the Legal Services Corporation's implementing regulation, 45 CFR 1622.5(g), and will not be available for public inspection. A copy of the General Counsel's Certification that in his opinion the closing is authorized by law will be available upon request.

• Finance Committee—Open, except that a portion of the meeting will be closed to the public pursuant to a vote of the Board of Directors so the committee may consider and perhaps act on a staff report on the classification of LSC consultants.

A verbatim written transcript will be made of the closed session of the closing is authorized by law will be available upon request.

• Board of Directors Meeting—Open, except that a portion of the meeting of the Board of Directors may be closed to the public pursuant to a vote of the Board of Directors to consider and perhaps act on the General Counsel's report on potential and pending litigation involving LSC and consider and act on staff and committee reports on the classification LSC consultants. The closed session will also include a briefing by LSC's Inspector General.

A verbatim written transcript will be made of the closed session of the Board meeting. However, the transcript of any portions of the closed session falling within the relevant provisions of the Government in the Sunshine Act, 5 U.S.C. 552b(c)(9)(B) and (10), and the corresponding provisions of the Legal Services Corporation's implementing regulation, 45 CFR 1622.5(g) and (h) will not be available for public inspection. A copy of the General Counsel's Certification that in his opinion the closing is authorized by law will be available upon request.

MATTERS TO BE CONSIDERED:

Committee on the Provision for the Delivery of Legal Services (October 30, 2009)

Agenda

1. Approval of agenda.

2. Approval of the Committee's meeting minutes of July 24, 2009.

3. Presentation by the New Jersey LSC Program Executive Directors on coordination of work in the face of increased client demand and decreased funding, with an overview by De Miller, President, Legal Services of New Jersey.

• Felipe Chavana, Essex-Newark Legal Services Project;

• John Fitzgerald, Northeast New Jersey Legal Services;

• Douglas Gershuny, South Jersey Legal Services;

• Paul Mullin, Central Jersey Legal Services;

• William Rempel, Ocean-Monmouth Legal Services;

• Diane Smith, Legal Services of Northwest Jersey.

4. Staff Update on activities implementing the LSC Private Attorney Involvement Action Plan—Help Close the Justice Gap: Unleash the Power of Pro Bono.

5. Staff Update on Native American Delivery and Funding.

6. Staff Report on LSC training initiatives.

7. Public comment.

8. Consider and act on other business.

9. Consider and act on adjournment of session.

Audit Committee (October 30, 2009)

Agenda

Open Session

1. Approval of agenda.

2. Approval of minutes of the Committee's July 24, 2009 meeting.

3. Discussion with outside auditors on Fiscal Year 2009 audit.

4. Consider and act on whether to conduct a closed meeting.

Closed Session

5. Follow-up to FY 2008 Annual Audit reference on classification of consultants and OIG audit of LSC's consultant contracts.

Open Session

6. Staff report on potential amendment to LSC's 403(b) Plan.

7. Public comment.

8. Consider and act on other business.

9. Consider and act on adjournment of meeting.

Search Committee for Interim LSC President (October 30, 2009)

Agenda

Open Session

1. Approval of agenda.

2. Consider and act on whether to conduct a closed session of the Committee to address items listed below under Closed Session.

Closed Session

3. Consider and act on a recommendation to make to Board as to an Interim President for LSC.

4. Consider and act on adjournment of meeting.

Operations & Regulations Committee (October 30, 2009)

Agenda

1. Approval of agenda.

2. Approval of the minutes of the Committee's April 25, 2009 meeting.

3. Approval of the minutes of the Committee's July 25, 2009 meeting.

4. Consider and act on proposed revisions to LSC's Employee Handbook.

5. Consider and act on the LSC Board of Directors' role in collective bargaining.

6. Staff report on LSC's survey of grantees' Boards of Directors.

7. Discussion of need for and wisdom of requiring grantees' governing bodies to establish audit committees.

8. Office of Inspector General (“OIG”) report on IPA survey results.

9. Report on status of GAO review.

10. Consider and act on Inspector General's proposal for a modified LSC logo.

11. Consider and act on whether to amend 45 CFR part 1622 to remove from its requirements either all councils and non-executive committees of the Board or to remove from its requirements only the Board's Governance & Performance Review Committee performance evaluations of the President and the Inspector General.

12. Other public comment.

13. Consider and act on other business.

14. Consider and act on adjournment of meeting.

Governance and Performance Review Committee (October 31, 2009)

Agenda

1. Approval of agenda.

2. Approval of the minutes of the Committee's July 25, 2009 meeting.

3. Consider and act on performance review of the Inspector General.

4. Distribution of Forms and Instructions for Individual and Board Self-Assessment for 2009.

5. Report on orientation for new Board members.

• Staff Report from Victor Fortuno and John Constance.

6. Consider and act on amendment to Committee charter to add responsibility for oversight of LSC's compensation plan.

7. Consider and act on other business.

8. Consider and act on adjournment of meeting.

Finance Committee (October 31, 2009)

Agenda

1. Approval of agenda.

2. Approval of the minutes of the meeting of September 21, 2009.

3. Consider and act on FY 2009 COB reallocations and Resolution 2009-016.

4. Presentation on LSC's Financial Reports for the Year Ending September 30, 2009.

• Presentation by David Richardson;

• Comments by Charles Jeffress;

• Comments by Jeffrey Schanz.

5. Consider and act on whether to conduct a closed meeting.

Closed Session

6. Consider and act on staff report on the classification of LSC consultants.

Open Session

7. Consider and act on amendment to LSC's 403(b) Plan and Resolution 2009-017.

8. Staff report on status of FY 2010 appropriations process.

• Presentation by John Constance.

9. Consider and act on Resolution # 2008-018, Temporary Operating Budget for FY 2010.

• Presentation by David Richardson;

• Comments by Charles Jeffress.

10. Public comment.

11. Consider and act on other business.

12. Consider and act on adjournment of meeting.

Board of Directors (October 31, 2009)

Agenda

1. Approval of agenda.

2. Approval of the minutes of the Board's Open Session meeting of July 25, 2009.

3. Approval of the minutes of the Board's Open Session Telephonic meeting of September 8, 2009.

4. Approval of the minutes of the Board's Open Session meeting of September 21, 2009.

5. Chairman's Report.

6. Members' Reports.

7. President's Report.

8. Inspector General's Report.

9. Consider and act on the report of the Committee on the Provision for the Delivery of Legal Services.

10. Consider and act on the report of the Finance Committee.

11. Consider and act on the report of the Operations & Regulations Committee.

12. Consider and act on the report of the Audit Committee.

13. Consider and act on the report of the Governance & Performance Review Committee.

14. Consider and act on the report of the Search Committee to recommend an interim President.

15. Staff report on Strategic Directions progress.

16. Public comment.

17. Consider and act on whether to authorize an executive session of the Board to address items listed below under Closed Session.

Closed Session

18. Briefing by the Inspector General.

19. Consider and act on staff and committee reports on the classification of LSC consultants.

20. Consider and act on General Counsel's report on potential and pending litigation involving LSC.

21. Consider and act on other business.

22. Consider and act on motion to adjourn meeting.

CONTACT PERSON FOR INFORMATION: Katherine Ward, Executive Assistant to the Vice President & General Counsel, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward, at (202) 295-1500 or FR_NOTICE_QUESTIONS@lsc.gov.

Dated: October 23, 2009.
Victor M. Fortuno,
Vice President & General Counsel.

[FR Doc. E9-25996 Filed 10-23-09; 4:15 pm]

BILLING CODE 7050-01-P